DEPARTMENT OF THE TREASURY

Submission for OMB review; comment request

June 5, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 12, 2001 to be assured of consideration.

Internal Revenue Service (IRS)

OMB Number: 1545-0112.

Form Number: IRS Form 1099-INT.

Type of Review: Extension.

Title: Interest Income.

Description: This form is used for reporting interest income paid, as required by sections 6049 and 6041 of the Internal Revenue Code. It is used to verify that payees are correctly reporting their income.

Respondents: Business or other for-profit, Individuals or households, Not-for-profit institutions, Federal Government.

Estimated Number of Respondents/Recordkeepers: 709,000.

Estimated Burden Hours Per Respondent/Recordkeeper: 12 minutes.

Frequency of Response: Annually.

Estimated Total Reporting/Recordkeeping Burden: 54,979,533 hours.

OMB Number: 1545-0715.

Form Number: IRS Form 1099-B.

Type of Review: Extension.

Title: Proceeds From Broker and Barter Exchange Transactions.

Description: Form 1099-B is used by brokers and barter exchanges to report proceeds from transactions to the Internal Revenue Service.

Respondents: Individuals or households.

Estimated Number of Respondents/Recordkeepers: 50,000.

Estimated Burden Hours Per Respondent/Recordkeeper: 15 minutes.

Frequency of Response: Annually.

Estimated Total Reporting/Recordkeeping Burden: 29,402,969 hours.

OMB Number: 1545-1342.

Form Number: IRS Form W-5.

Type of Review: Extension.

Title: Earned Income Credit Advance Payment Certificate.

Description: Form W-5 is used by employees to see if they are eligible for the earned income credit and to request part of the credit in advance with their pay. Eligible employees who want advance payments must give Form W-5 to their employers.

Respondents: Individuals or households.

Estimated Number of Respondents/Recordkeepers: 183,450.

Estimated Burden Hours Per Respondent/Recordkeeper:

Recordkeeping | 7 min.
Learning about the law or the form | 11 min.
Preparing the form | 27 min.

Frequency of Response: Annually.

Estimated Total Reporting/Recordkeeping Burden: 137,588 hours.

OMB Number: 1545-1596.

Form Number: IRS Form 8857.

Type of Review: Extension.

Title: Request for Innocent Spouse Relief.

Description: Section 6103(e) of the Internal Revenue Code allows taxpayers to request, and IRS to grant, “innocent spouse” relief when: taxpayer filed a joint return with tax substantially understated; taxpayer establishes no knowledge of, or benefit from, the understatement; and it would be inequitable to hold the taxpayer liable. GAO Report GAO/GGD-97-34 recommended that IRS develop a form to make relief easier for the public to request.

Respondents: Individuals or households.

Estimated Number of Respondents: 21,336.

Estimated Burden Hours Per Respondent:

Learning about the law or the form | 17 min.
Preparing the form | 22 min.
Copying, assembling, and sending the form to the IRS | 20 min.

Frequency of Response: On occasion.

Estimated Total Reporting Burden: 21,123 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports, Management Officer.

[FR Doc. 01-14683 Filed 6-11-01; 8:45 am]

BILLING CODE 4830-01-P